ENVIRONMENTAL PROTECTION AGENCY

40 CFR Part 52

[EPA-R06-OAR-2011-0034; FRL-9936-36-Region 6]

Approval and Promulgation of Air Quality Implementation Plans; Oklahoma

AGENCY: Environmental Protection Agency (EPA).

ACTION: Proposed rule.

SUMMARY: Under the Federal Clean Air Act the Environmental Protection Agency (EPA) is approving revisions to the Oklahoma State Implementation Plan (SIP) submitted by the State of Oklahoma designee. The revisions are administrative in nature and modify redundant or erroneous text within the SIP. The revisions also incorporate new definitions and the current National Ambient Air Quality Standards for four criteria pollutants; delete a subchapter that addresses motor vehicle pollution control devices; and add requirements for certain incinerators.

DATES: Written comments should be received on or before December 3, 2015.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Ms. Carrie Paige, (214) 665-6521, paige.carrie@epa.gov.

SUPPLEMENTARY INFORMATION: In the final rules section of this Federal Register, the EPA is approving the State's SIP submittals as a direct rule without prior proposal because the Agency views these as noncontroversial submittals and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: October 20, 2015.
Ron Curry,
Regional Administrator, Region 6.

[FR Doc. 2015-27917 Filed 11-2-15; 8:45 am]

BILLING CODE 6560-50-P